DEPARTMENT OF HOUSING AND URBAN DEVELOPMENT

[Docket No. FR-5481-N-15]

Notice of Proposed Information Collection: Comment Request, Protection and Enhancement of Environmental Quality

AGENCY: Office of the Assistant Secretary for Community Planning and Development, HUD.

ACTION: Notice.

Summary: The proposed information collection requirement described below will be submitted to the Office of Management and Budget (OMB) for review as required by the Paperwork Reduction Act. The Department is soliciting public comments on the subject proposal.

Dates: Comments Due Date: November 14, 2011.

ADDRESSES: Interested persons are invited to submit comments regarding this proposal. Comments should refer to the proposal by name and/or OMB Control Number and should be sent to: William D. Kelleher, Community Planning and Development, Department of Housing and Urban Development, 451 7th Street, SW., Room 7256, Washington, DC 20410-7000.

FOR FURTHER INFORMATION CONTACT: Charles Bien, Acting Director, Office of Environment and Energy, Department of Housing and Urban Development, 451 7th Street, SW., Room 7250, Washington, DC 20410-7000. For telephone and e-mail communication, contact Jerimiah Sanders, Environmental Review Division, (202) 402-4571 or e-mail: jerimiah.j.sanders@hud.gov. This phone number is not toll-free. Hearing or speech-impaired individuals may access this number via TTY by calling the toll-free Federal Information Relay Service at 1-800-877-8339.

SUPPLEMENTARY INFORMATION: The Department will submit the proposed information collection to OMB for review, as required by the Paperwork Reduction Act of 1995 (44 U.S.C. chapter 35, as Amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information (3) Enhance the quality, utility, and clarity of the information to be collected; and (4) Minimize the burden of the collection of information on those who are to respond; including through the use of appropriate automated collection techniques or other forms of information technology, e.g., permitting electronic submission of responses.

This Notice also lists the following information:

Title of Proposal: Environmental Review of Proposed Housing Development.

OMB Control Number, if applicable: 2506-0177.

Description of the need for the information and proposed use: The information collection applies to applicants seeking HUD financial assistance for their project proposals and is used by HUD for the performance of the Department's compliance with the National Environmental Policy Act and related federal environmental laws and authorities in accordance with HUD environmental regulations, 24 CFR part 50: “Protection and Enhancement of Environmental Quality.”

Agency form numbers, if applicable: None.

The total numbers of hours needed to prepare the information collection is approximately eight hours. The number of respondents is approximately 2,600. The frequency of response is a one-time collection. The proposed information collection is for the extension of a currently approved collection.

Authority: The Paperwork Reduction Act of 1995, 44 U.S.C. Chapter 35, as amended.

Dated: September 9, 2011.
Clifford Taffet,
General Deputy Assistant Secretary for Community Planning and Development.

[FR Doc. 2011-23542 Filed 9-13-11; 8:45 am]

BILLING CODE 4210-67-P